DEPARTMENT OF THE TREASURY

Departmental Offices, Office of Financial Education; Proposed Collection; Comment Request

ACTION: Notice and request for comments.

SUMMARY: The Department of the Treasury, as part of its continuing effort to reduce paperwork burdens, invites the general public and other Federal agencies to comment on a proposed information collection, as required by the Paperwork Reduction Act of 1995, Public Law 104-13 (44 U.S.C. 3506(c)(2)(A)). The Office of Financial Education within the Department of the Treasury is soliciting comments on a proposed new collection of information concerning the Workplace Financial Education Honor Roll Program (Honor Roll) application. To keep America competitive in the future, it is important to continue to increase the levels of financial literacy in the U.S. The purpose of the Honor Roll is to recognize employers that provide successful financial education programs to their employees. The Honor Roll is intended to spur interest in financial education by highlighting successful initiatives that show the benefits of financial education through both private sector and public sector efforts. The Honor Roll is one of the initiatives that the newly created President's Advisory Council on Financial Literacy has recommended to the Department of the Treasury.

DATES: Written comments should be received on or before October 27, 2008 to be assured of consideration.

ADDRESSES: Direct all written comments to Dubis Correal, Director, Office of Financial Education, Department of the Treasury, Room 1328, 1500 Pennsylvania Ave., NW., Washington, DC 20220 or Dubis.Correal@do.treas.gov.

FOR FURTHER INFORMATION CONTACT: Requests for additional information or copies of the Honor Roll application should be directed to Dubis Correal, Director, Office of Financial Education, Department of the Treasury, Room 1328, 1500 Pennsylvania Ave., NW., Washington, DC 20220 or Dubis.Correal@do.treas.gov.

SUPPLEMENTARY INFORMATION: Title: Workplace Financial Education Honor Roll Program Application.

Abstract: Information will be collected on a voluntary basis from both private sector and public sector employers interested in being selected for the Honor Roll. This information is necessary to evaluate and assess the effectiveness of employer financial education programs and to determine which employers will be placed on the Treasury Honor Roll.

Current Actions: New collection. The Department of the Treasury will collect information on an annual basis from eligible employers who want to be recognized for providing successful financial education programs to their employees. The information to be collected will include brief narrative descriptions on the types of financial education programs offered to employees and the impact of such programs on employees. The Department of the Treasury will not collect any personally identifiable financial information.

Type of Review: New.

Affected Public: Business or other for-profit organizations, Not-for-profit institutions, and State, Local or Tribal Governments.

Estimated Number of Respondents: 60, 1 response per year.

Estimated Average Time per Respondent: Six hours per respondent per filling.

Estimated Total Annual Burden Hours: 360.

Request for Comments: Comments submitted in response to this notice will be summarized and/or included in the request for OMB approval. All comments will become a matter of public record and subject to public disclosure in their entirety. You should only submit comments that you wish to make available publicly. Comments are invited on: (a) Whether the collection of information is necessary for the proper performance of the functions of the agency, including whether the information will have practical utility; (b) the accuracy of the agency's estimate of the burden of the collection of information; (c) ways to enhance the quality, usefulness and clarity of the information to be collected; (d) ways to minimize the burden of the collection of information on respondents, including through the use of automated collection techniques or other forms of information technology; and (e) estimates of capital or start-up costs and costs of operation, maintenance and purchase of services to provide information.

Dated: August 19, 2008.
Lindsay Valdeon,
Deputy Executive Secretary, Treasury Department.

[FR Doc. E8-19694 Filed 8-25-08; 8:45 am]

BILLING CODE 4810-25-P